DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Federal Statistical System Public Opinion Survey.

OMB Control Number: None.

Form Number(s): None.

Type of Request: New collection.

Burden Hours: 11.667.

Number of Respondents: 70,000.

Average Hours Per Response: 10 minutes.

Needs and Uses: The Census Bureau is seeking ways to reverse the decline in response rates for its ongoing surveys to avoid both increasing operational costs and potential declines in data quality. We hypothesize that members of the public would voluntarily cooperate more extensively with federal surveys if they trust the federal statistical system and the resulting federal statistics. Therefore, we propose to collect information about public awareness and attitudes towards federal statistics and the federal statistical system. The information collected will assist the Census Bureau in addressing attitudes, beliefs, and concerns the public may have regarding its trust (confidence) in federal statistics and in the collection of statistical information by the federal government from the public, as well as attitudes toward and knowledge of the statistical uses of administrative records. The data will also allow us to understand how current events influence public perception towards federal statistics.

From February 2012 through September 2013, the Census Bureau will add 25 questions nightly onto an ongoing data collection by the Gallup organization. Approximately nineteen of the 25 questions will be core questions and approximately 6 will be available for rotation. Core questions will focus on awareness of and attitudes towards federal statistics and federal statistical agencies. There will be 1-2 core questions on attitudes towards the statistical use of administrative records. Core questions will be used to explore relationships among the concepts, develop a time series and measure any “shocks” to the system. Shocks could include any current events that may impact awareness or attitudes towards topics being measured. They may include things like data breaches (public or private sector), elections, or any unanticipated news event that may alter public perception. By having a continual data collection, we will be able to look for changes in public perception after any of these types of events occur or look for underlying causes when we see a change in the time series.

Up to 20 times during the data collection, roughly monthly, up to 6 questions may be rotated in the survey. Rotating questions will be used for three distinct purposes:

• First, experiments will be planned for questions surrounding public opinion of statistical uses of administrative records. Topics of experiments will include public perception of the quality of such records, public perception of privacy and confidentiality implications of such use, and differentiation between types of administrative records and types of statistical uses. These experiments will be conducted using different frames around questions, varying the types of records mentioned and the methods of use in the question, willingness-to-pay/stated preference questions, and so on. These types of questions would use up to 6 questions in the nightly interview and would be fielded for a pre-specified amount of time. These experimental questions will be submitted to OMB at a later date as an addendum to this submission, although some examples are provided as illustrative examples in Attachment B.

• Second, rotating questions will be used around known, planned events to gage awareness of those events and opinions about the relationship (if any) between those events and the federal statistical system. Examples of planned events are the presidential election, release of particular statistics, and any pre-planned public awareness activities. These types of questions would add up to 3 questions in the nightly interview and would be fielded for a limited amount of time surrounding the particular event. The particular questions will be submitted to OMB at a later date as an addendum to this submission, but would ask things like awareness of the event, and opinions about the relationship (if any) between those events and the federal statistical system.

• Third, we may wish to add rotating questions very quickly after an unanticipated event to gage awareness of those events and opinions about the relationship (if any) between those events and the federal statistical system. These could be events like a data breach (public or private sector), political scandal, or any other unanticipated news event that may alter public perceptions. Gallup can add questions with as little as 48 hours notice. These types of questions would add up to 3 questions in the nightly interview and would be fielded for a limited amount of time surrounding the particular event. These questions would be submitted to OMB for a quick-turn-around approval and would be very limited in scope to address the particular unanticipated event.

These public opinion data will enable the Census Bureau to better understand public perceptions, which will provide guidance for communicating with the public and for future planning of data collection that reflects a good understanding of public perceptions and concerns. Because all federal statistical agencies are also facing these issues of declining response rates and increasing costs in a time of constrained budgets, the Census Bureau will share the results of these surveys with other federal statistical agencies, to maximize the utility of this information collection and ultimately, the quality and efficiency of federal statistics. Specifically, the member agencies of the Interagency Council on Statistical Policy (ICSP) have expressed an interest in this effort. A subgroup of ICSP member agencies have been particularly helpful in developing this proposal. They include the National Agricultural Statistics Service, the National Center of Health Statistics, the Economic Research Service, Statistics of Income Division (IRS), and the Statistical and Science Policy Office, Office of Management and Budget. We refer to this working group as the Federal Statistical System (FSS) Team. The ICSP agencies will use results from this data collection to inform public communication and for future planning of data collection.

Affected Public: Individuals or households.

Frequency: One time.

Respondent's Obligation: Voluntary.

Legal Authority: Title 13 U.S.C. Chapter 5.

OMB Desk Officer: Brian Harris-Kojetin, (202) 395-7314.

Copies of the above information collection proposal can be obtained by calling or writing Diana Hynek, Departmental Paperwork Clearance Officer, (202) 482-0266, Department of Commerce, Room 6616, 14th and Constitution Avenue NW., Washington, DC 20230 (or via the Internet at dhynek@doc.gov).

Written comments and recommendations for the proposed information collection should be sent within 30 days of publication of this notice to Brian Harris-Kojetin, OMB Desk Officer either by fax (202) 395-7245) or email (bharrisk@omb.eop.gov).

Dated: December 22, 2011.
Glenna Mickelson,
Management Analyst, Office of the Chief Information Officer.

[FR Doc. 2011-33268 Filed 12-27-11; 8:45 am]

BILLING CODE 3510-07-P